FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 29, 2014.

A. Federal Reserve Bank of Minneapolis (Jacqueline K. Brunmeier, Assistant Vice President) 90 Hennepin Avenue, Minneapolis, Minnesota 55480-0291:

1. Ericka Lynn Kotab and David William Kotab, both of Wagner, South Dakota, to acquire shares of Commercial Holding Company, Wagner, South Dakota, and join the Frei Family Shareholder group which owns 25 shares of Commercial Holding Company, Wagner, South Dakota, and thereby indirectly controls Commercial State Bank of Wagner, Wagner, South Dakota.

Board of Governors of the Federal Reserve System, May 9, 2014.
Michael J. Lewandowski,
Assistant Secretary of the Board.

[FR Doc. 2014-11065 Filed 5-13-14; 8:45 am]

BILLING CODE 6210-01-P